DEPARTMENT OF THE INTERIOR

National Park Service

[NPS-WASO-DPOL-0312-9771; 0004-SYP]

Meeting of the National Park System Advisory Board

AGENCY: National Park Service, Interior.

ACTION: Notice of meeting.

SUMMARY: Notice is hereby given in accordance with the Federal Advisory Committee Act, 5 U.S.C. Appendix, and Parts 62 and 65 of title 36 of the Code of Federal Regulations, that the National Park System Advisory Board will meet May 22-23, 2012, in Denver, Colorado. The agenda will include the review of proposed actions regarding the National Historic Landmarks Program and the National Natural Landmarks Program. The Board also may consider recommendations in the Draft Feasibility Study for the Proposed Chisholm and Great Western National Historic Trail prepared in compliance with Section 5303 of Public Law 111-11. Interested parties are encouraged to submit written comments and recommendations that will be presented to the Board. Interested parties also may attend the board meeting and upon request may address the Board concerning an area's national significance.

DATES: (a) Written comments regarding any proposed National Historic Landmarks matter or National Natural Landmarks matter listed in this notice will be accepted by the National Park Service until May 21, 2012. (b) The Board will meet on May 22-23, 2012.

Location: The meeting will be held in the Sage Room of The Oxford Hotel, 1600—17th Street, Denver, Colorado 80202, telephone 303-628-5400.

Information: (a) For information concerning the National Park System Advisory Board or to request to address the Board, contact Shirley Sears Smith, Office of Policy, National Park Service, 1201 I Street, NW., 12th Floor, Washington, DC 20005, telephone 202-354-3955, email Shirley_S_Smith@nps.gov. (b) To submit a written statement specific to, or request information about, any National Historic Landmarks matter listed below, or for information about the National Historic Landmarks Program or National Historic Landmarks designation process and the effects of designation, contact J. Paul Loether, Chief, National Register of Historic Places and National Historic Landmarks Program, National Park Service, 1849 C Street NW., (2280), Washington, DC 20240, email Paul_Loether@nps.gov. (c) To submit a written statement specific to, or request information about, any National Historic Trails Program matter listed below, or for information about the National Historic Trails Program or the National Trails System, contact Aaron Mahr Yáñez, Superintendent, National Trails−Intermountain Region, National Park Service, P.O. Box 728, Santa Fe, New Mexico 97504, telephone 505-988-6736, email Aaron_Mahr@nps.gov. (d) To submit a written statement specific to, or request information about, any National Natural Landmarks matter listed below, or for information about the National Natural Landmarks Program or National Natural Landmarks designation process and the effects of designation, contact Dr. Margaret Brooks, Program Manager, National Natural Landmarks Program, National Park Service, 225 N. Commerce Park Loop, Tucson, Arizona 85745, email Margi_Brooks@nps.gov.

SUPPLEMENTARY INFORMATION: On May 22, the Board will convene its business meeting at 8:15 a.m., and adjourn for the day at 5 p.m. The Board will reconvene at 7:50 a.m., on May 23 and adjourn at 9:45 a.m. During the course of the two days, the Board will be addressed by National Park Service Director Jonathan Jarvis; briefed by other National Park Service officials regarding education, leadership development and science; deliberate and make recommendations concerning National Historic Landmark Program, National Natural Landmarks Program, and National Historic Trail Program proposals; and receive status briefings on matters pending before committees of the Board. On the afternoon of May 23, the Board will tour Garden of the Gods National Natural Landmark in Colorado Springs.

A. National Historic Landmarks (NHL) Program

NHL Program matters will be considered at the business meeting on the morning of May 23, during which the Board may consider the following:

Nominations for New NHL Designations

Arizona

• Murray Springs Clovis Site, Cochise County, AZ.

• Poston Elementary School, Unit I, La Paz County, AZ.

California

• Knight's Ferry Bridge, Stanislaus County, CA.

• U.S. Court House and Post Office (Court House for the Southern District of California), Los Angeles, CA.

• U.S. Post Office and Court House (James R. Browning U.S. Court of Appeals), San Francisco, CA.

Colorado

• Denver Civic Center, Denver, CO.

Iowa

• Davis Oriole Earthlodge Site, Mills County, IA.

Indiana

• The Republic, Columbus, IN.

Kansas

• Black Jack Battlefield, Douglas County, KS.

Massachusetts

• Central Congregational Church, Boston, MA.

Nevada

• McKeen Motorcar #70 (Virginia & Truckee Railway Motor Car #22), Carson City, NV.

New Jersey

• Camp Evans Signal Laboratory, Wall Township, NJ.

New Mexico (also in Colorado)

• Denver & Rio Grande Railroad San Juan Extension (Cumbres & Toltec Scenic Railroad), CO and NM.

New York

• Admiral Farragut Gravesite, New York, NY.

• Hispanic Society of America Complex, New York, NY.

• Stepping Stones (Bill and Lois Wilson House), Katonah, NY.

• University Heights Campus (Bronx Community College of the City University of New York), Bronx, NY.

Ohio

• Central Branch, National Home for Disabled Volunteer Soldiers/Dayton Veterans Administration Home, Dayton, OH.

• Dr. Bob's Home (Dr. Robert and Anne Smith House), Akron, OH.

Pennsylvania

• Historic Moravian Bethlehem Historic District, Bethlehem, PA.

Puerto Rico

• Bacardi Distillery Historic District, Cataño, PR.

Rhode Island

• United Congregational Church, Newport, RI.

Virginia

• Humpback Bridge, Alleghany County, VA.

Wisconsin

• Greendale Historic District, Village of Greendale, WI.

Proposed Amendments to Existing Designations

• Hamilton Grange, New York (updated documentation and boundary revision).

• Nantucket Historic District, Nantucket County, MA (updated and additional documentation).

B. National Historic Trails Program

Proposed National Historic Trail

• Proposed Chisholm and Great Western National Historic Trail, KS, NE., OK, TX (national significance recommendation).

C. National Natural Landmarks (NNL) Program

NNL Program matters will be considered at the business meeting on the morning of May 23, during which the Board may consider the following:

Nomination for New NNL Designation

Colorado

• Big Spring Creek, Saguache County, CO.

The board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time. Before including your address, telephone number, email address, or other personal identifying information in your comment, you should be aware that your entire comment—including your personal identifying information—may be made publicly available at any time. While you can ask us in your comment to withhold your personal identifying information from public review, we cannot guarantee that we will be able to do so.

Draft minutes of the meeting will be available for public inspection about 12 weeks after the meeting in the 12th floor conference room, 1201 I Street, NW., Washington, DC.

Dated: March 15, 2012.
Bernard Fagan,
Chief, Office of Policy.

[FR Doc. 2012-6931 Filed 3-21-12; 8:45 am]

BILLING CODE 4312-52-P